DEPARTMENT OF HEALTH AND HUMAN SERVICES

Centers for Disease Control and Prevention

Notice of Availability of Final Environmental Assessment (FINAL EA) and a Finding of No Significant Impact (FONSI) for Land Purchase, Access Road Construction and Access Tunnel Construction, NIOSH Lake Lynn Laboratory, Lake Lynn, PA

AGENCY: Centers for Disease Control and Prevention (CDC), Department of Health and Human Services (HHS).

ACTION: Notice of Availability of Final Environmental Assessment (FINAL EA) and a Finding of No Significant Impact (FONSI) for Land Purchase, Access Road Construction and Access Tunnel Construction, NIOSH Lake Lynn Laboratory, Lake Lynn, PA.

SUMMARY: The Centers for Disease Control and Prevention (CDC), located within the Department of Health and Human Services (HHS) is issuing this notice to advise the public that the CDC has prepared, and signed on September 7, 2010, a Finding of No Significant Impact (FONSI) based on the Final Environmental Assessment (FINAL EA) for Land Purchase, Access Road Construction and Access Tunnel Construction, NIOSH Lake Lynn Laboratory, Lake Lynn, Pennsylvania. The CDC prepared the final EA, dated July 2010, in accordance with the National Environmental Policy Act.

DATES: The FONSI and/or Final EA are available October 7, 2010.

ADDRESSES: Interested parties may request copies of the FONSI and/or Final EA, from: Mr. Sam Tarr, Centers for Disease Control and Prevention, Buildings and Facilities Office, 1600 Clifton Road, Mailstop K96, Atlanta, GA 30333. Telephone Number (770) 488-8170.

SUPPLEMENTARY INFORMATION: The Final EA evaluated the acquisition of approximately 507 acres of real estate containing the CDC/NIOSH's Lake Lynn Experimental Mine located in Springhill Township, Pennsylvania. The EA also evaluated the construction for a new access road and new entry access mine tunnels servicing the Experimental Mine. The purpose and need of the proposed acquisition and construction improvements secures the currently leased Experimental Mine for the long-term continuation of mine health and safety research currently conducted at the site.

The Final EA has been prepared in accordance with the National Environmental Policy Act (NEPA) of 1969. Based on the results of the EA, CDC has issued a Finding of No Significant Impact (FONSI) indicating that the proposed action will not have a significant impact on the environment. Minimization and mitigating measures will include: compliance with applicable regulatory laws, procedures, and permits for stream crossings; conduct presence absence surveys for identified wildlife; implementation of avoidance plan for a previously recorded archeological site near area of proposed access road construction; and the application of best management practices (BMP) to minimize short term air quality and noise impact during roadway and access mine tunnel construction.

Dated: September 30, 2010.
Tanja Popovic,
Deputy Associate Director for Science, Centers for Disease Control and Prevention.

[FR Doc. 2010-25269 Filed 10-6-10; 8:45 am]

BILLING CODE 4163-18-P